HEALTH AND HUMAN SERVICES DEPARTMENT

Administration for Children and Families

45 CFR Part 301

State Plan Approval and Grant Procedures

CFR Correction

In Title 45 of the Code of Federal Regulations, Parts 200 to 499, revised as of October 1, 2011, on page 221, in § 301.1 definitions for “Agent of a Child” and “Attorney of a Child” are added to read as follows:

§ 301.1 General definitions.

* * * * *

Agent of a Child means a caretaker relative having custody of or responsibility for the child.

* * * * *

Attorney of a Child means a licensed lawyer who has entered into an attorney-client relationship with either the child or the child's resident parent to provide legal representation to the child or resident parent related to establishment of paternity, or the establishment, modification, or enforcement of child support. An attorney-client relationship imposes an ethical and fiduciary duty upon the attorney to represent the client's best interests under applicable rules of professional responsibility.

* * * * *

[FR Doc. 2012-23893 Filed 9-26-12; 8:45 am]

BILLING CODE 1505-01-D